DEPARTMENT OF TRANSPORTATION

Federal Aviation Administration

14 CFR Part 71

[Docket No. FAA-2024-1980; Airspace Docket No. 24-ASO-21]

RIN 2120-AA66

Amendment of Class E Airspace; Tarboro, NC

AGENCY: Federal Aviation Administration (FAA), DOT.

ACTION: Final rule; delay of effective date.

SUMMARY: On May 2, 2025, the FAA issued a final rule amending Class E airspace extending upward from 700 feet above the surface for ECU Health Edgecombe Heliport, Tarboro, NC, to accommodate new area navigation (RNAV) global positioning system (GPS) standard instrument approach procedures serving the heliport. That final rule also updated the coordinates to reflect the most current and accurate location for Tarboro Edgecombe Airport. This action delays the effective date of that final rule by changing it from June 12, 2025, to August 7, 2025, to align with the publication dates of aeronautical charts.

DATES: The effective date of the final rule published on May 2, 2025 (90 FR 18777) is delayed to 0901 UTC, August 7, 2025. The Director of the Federal Register approved this incorporation by reference action under 1 CFR part 51, subject to the annual revision of FAA Order JO 7400.11 and publication of conforming amendments.

FOR FURTHER INFORMATION CONTACT: Rachel Cruz, Operations Support Group, Eastern Service Center, Federal Aviation Administration, 1701 Columbia Ave., College Park, GA 30337; Telephone (404) 305-5571.

SUPPLEMENTARY INFORMATION: In the final rule published May 2, 2025 (90 FR 18777) for Docket. No. FAA-2024-1980, the published effective date (June 12, 2025) does not properly align with the publication dates of aeronautical charts. Accordingly, to remain compliant with aeronautical chart publication dates and align with the upcoming charting cycle, the FAA is delaying the effective date of that final rule to August 7, 2025.

Delay of Effective Date

Accordingly, pursuant to the authority delegated to me, the effective date of the final rule for Airspace Docket FAA-2024-1980, as published in the Federal Register on May 2, 2025 (May 2, 2025), FR Doc. 2025-07628, is hereby delayed to August 7, 2025.

Authority: 49 U.S.C. 106(f), 106(g), 40103, 40113, 40120; E.O. 10854, 24 FR 9565, 3 CFR, 1959-1963 Comp., p. 389.

Issued in College Park, Georgia, on May 7, 2025.
Patrick Young,
Manager, Airspace & Procedures Team North, Eastern Service Center, Air Traffic Organization.

[FR Doc. 2025-08353 Filed 5-13-25; 8:45 am]

BILLING CODE 4910-13-P